DEPARTMENT OF THE INTERIOR

Bureau of Indian Affairs

Indian Gaming

AGENCY: Bureau of Indian Affairs, Interior.

ACTION: Notice of Tribal-State Compact Taking Effect.

SUMMARY: Notice is given that the State of Oklahoma and the Quapaw Tribe of Oklahoma (O-GAH-PAH) Off-Track Wagering Compact is considered approved and is in effect.

DATES: Effective Date: August 5, 2008.

FOR FURTHER INFORMATION CONTACT: Paula L. Hart, Acting Director, Office of Indian Gaming, Mailstop 3657—Main Interior Building, Washington, DC 20240, (202) 219-4066.

SUPPLEMENTARY INFORMATION: Under Section 11 of the Indian Gaming Regulatory Act of 1988 (IGRA), Public Law 100-497, 25 U.S.C. 2710, the Secretary of the Interior shall publish in the Federal Register notice of approved Tribal-State compacts for the purpose of engaging in Class III gaming activities on Indian lands. Pursuant to 25 U.S.C. 2710(d)(8)(D), compacts that are approved or considered to have been approved are effective upon publication of a notice thereof in the Federal Register. No action was taken to approve or disapprove this Compact within forty-five (45) days of its submittal to the Secretary for approval; therefore, in accordance with 25 U.S.C. 2710(d)(8)(C), this Compact is considered to have been approved by the Secretary, but only to the extent that it is consistent with the provisions of the IGRA.

Dated: July 28, 2008.
George T. Skibine,
Acting Deputy Assistant Secretary for Policy and Economic Development.

[FR Doc. E8-17851 Filed 8-4-08; 8:45 am]

BILLING CODE 4310-4N-P